DEPARTMENT OF TRANSPORTATION

Federal Aviation Administration

Fifty Eighth Meeting: RTCA Special Committee 186, Automatic Dependent Surveillance-Broadcast (ADS-B)

AGENCY: Federal Aviation Administration (FAA), U.S. Department of Transportation (DOT).

ACTION: Meeting Notice of RTCA Special Committee 186, Automatic Dependent Surveillance-Broadcast (ADS-B).

SUMMARY: The FAA is issuing this notice to advise the public of the fifty eighth meeting of the RTCA Special Committee 222, Inmarsat AMS(R)S.

DATES: The meeting will be held March 8, 2013, from 9:00 a.m.-5:00 p.m.

ADDRESSES: The meeting will be held at the RTCA Headquarters, 1150 18th Street NW., Suite 910, Washington, DC 20036.

FOR FURTHER INFORMATION CONTACT: The RTCA Secretariat, 1150 18th Street, NW., Suite 910, Washington, DC, 20036, or by telephone at (202) 330-0662/(202) 833-9339, fax (202) 833-9434, or Web site at http://www.rtca.org. In addition, Jennifer Iversen may be contacted directly at email: jiversen@rtca.org.

SUPPLEMENTARY INFORMATION: Pursuant to section 10(a)(2) of the Federal Advisory Committee Act (Pub. L. 92-463, 5 U.S.C., App.), notice is hereby given for a meeting of Special Committee 186. The agenda will include the following:

March 08, 2013

• Chairman's Introductory Remarks.

• Review of Meeting Agenda.

• Review/Approval of the Fifty-Seventh Meeting Summary, RTCA Paper No. 184-12/SC 186-323.

• Status and Activities of EUROCAE WG51.

• Status and Activities of FAA Surveillance and Broadcast Services (SBS) Program.

• Working Group Reports.

• Status of WG-4, Application Technical Requirements.

Traffic Situation Awareness with Alerts (TSAA)

Flight-deck Interval Management (FIM)

CAVS and CDTI Assisted Pilot Procedures (CAPP)

Overall ASA System MOPS Schedules

• Date, Place and Time of Next Meeting.

• New Business.

• Pair-wise Trajectory Management

• Other?

• Other Business.

• None Identified

• Review Action Items/Work Programs.

• Adjourn Plenary.

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on February 19, 2013.
Paige Williams,
Management Analyst, Business Operations Group, NextGen, Management Services, Federal Aviation Administration.

[FR Doc. 2013-03948 Filed 2-20-13; 8:45 am]

BILLING CODE 4910-13-P